DEPARTMENT OF COMMERCE

National Oceanic and Atmospheric Administration

50 CFR Part 635

[Docket Nos. 130402317-3966-02 and 140429387-4971-02]

RIN 0648-XD659

Atlantic Highly Migratory Species; Commercial Porbeagle Shark Fishery

AGENCY: National Marine Fisheries Service (NMFS), National Oceanic and Atmospheric Administration (NOAA), Commerce.

ACTION: Temporary rule; closure and addendum to the fishing season notification.

SUMMARY: NMFS is closing fishing for the commercial porbeagle shark quota until further notice. This action is necessary because, as of December 10, 2014, the commercial landings of porbeagle sharks during the 2014 fishing season exceeded the available 2014 adjusted commercial quota and to an extent that makes 2015 commercial quota unavailable.

DATES: Fishing for the commercial porbeagle shark quota is closed effective 11:30 p.m. local time, December 17, 2014, until and if NMFS announces via a subsequent document in the Federal Register that additional quota is available and the season is reopened. The provisions in this document supercede the January 1, 2015, commercial season opening date and commercial quota established for porbeagle sharks in a December 2, 2014 final rule (79 FR 71331). Fishing for the commercial porbeagle shark quota will not open on January 1, 2015; it will remain closed until subsequent notice is provided.

FOR FURTHER INFORMATION CONTACT: Alexis Jackson or Karyl Brewster-Geisz 301-427-8503; fax 301-713-1917.

SUPPLEMENTARY INFORMATION: The Atlantic shark fisheries are managed under the 2006 Consolidated Highly Migratory Species (HMS) Fishery Management Plan (FMP), its amendments, and implementing regulations (50 CFR part 635) issued under authority of the Magnuson-Stevens Fishery Conservation and Management Act (16 U.S.C. 1801 et seq.).

Under § 635.5(b)(1), dealers must electronically submit reports on sharks that are first received from a vessel on a weekly basis through a NMFS-approved electronic reporting system. Reports must be received by no later than midnight, local time, of the first Tuesday following the end of the reporting week unless the dealer is otherwise notified by NMFS. Under § 635.28(b)(1), when NMFS calculates that the landings for a species or management group that is not linked to another species or management group have reached or are projected to reach 80 percent of the available quota, NMFS will file for publication with the Office of the Federal Register a notice of closure for the species or management group that will be effective no fewer than 5 days from date of filing. From the effective date and time of the closure until NMFS announces, via a document in the Federal Register, that additional quota is available and the season is reopened, the fishery for that species or management group is closed, even across fishing years.

On November 26, 2013 (78 FR 70500), NMFS announced that the commercial porbeagle shark quota for 2014 was 1.2 metric tons (mt) dressed weight (dw) (2,820 lb dw). Dealer reports recently received through December 10, 2014, indicate that 2.5 mt dw (5,586 lb dw), or 198 percent, of the available 2014 commercial porbeagle shark quota has been landed. Dealer reports received and reviewed to date indicate that 9 percent of the quota was landed from the opening of the fishery on January 1, 2014, through May 13, 2014; 16 percent of the quota was landed by September 16, 2014; 37 percent was landed by October 15, 2014; 55 percent was landed by November 14, 2014; and 198 percent of the quota was landed by December 10, 2014. Accordingly, because the available 2014 commercial quota has been exceeded to an extent, as described below, that makes 2015 commercial quota unavailable, NMFS is closing fishing for the commercial porbeagle shark quota as of 11:30 p.m. local time, December 17, 2014, until further notice. This closure does not affect other shark species or management groups.

NMFS previously established a January 1, 2015 season opening date for the commercial porbeagle shark quota in a December 2, 2014 final rule (79 FR 71331). This document supercedes that provision in the December 2 final rule, and fishing for the commercial porbeagle shark quota will remain closed until further notice.

Also in that final rule, NMFS announced that the available 2015 commercial porbeagle shark quota was 1.7 mt dw (3,748 lb dw). As of December 10, 2014, the 2014 landings exceeded the 2014 commercial quota by 1.3 mt dw (5,586 − 2,820 lb dw = 2,766 lb dw). Accounting for this overharvest provides for a 2015 commercial quota of 0.4 mt dw (3,748 − 2,766 lb dw = 982 lb dw). It would be difficult to monitor such a small amount of quota and to timely assess when landings are projected to reach 80 percent of it in a way that allows NMFS to close fishing for the quota before overharvests would occur (i.e., when landings reach 0.3 mt dw or 786 lb dw; § 635.28(b)(1)). Additionally, it is possible that additional porbeagle landings could be reported in 2014 before this closure becomes effective, making even less quota available for 2015. Thus, quota effectively is not available for the 2015 fishing season. Given the effect of the updated landings data on the availability of quota for 2015 and the regulatory closure provision that fishing for the commercial porbeagle shark quota remains closed, even across fishing years, until NMFS announces by Federal Register document that additional quota is available and the season is reopened (§ 635.28(b)(1)), fishing for the commercial porbeagle shark quota will not re-open on January 1, 2015; it will remain closed unless NMFS issues a subsequent document. Table 1 from the December 2, 2014 final rule is amended accordingly to reflect updated landings and actions (closure of fishery and change in available quota) associated with this document.

Table 1—2015 Annual Quotas and Opening Dates for the Atlantic Shark Fisheries
[All quotas and landings are dressed weight (dw), in metric tons (mt), unless specified otherwise]
Region | Management group | 2014 Annual quota | Preliminary 2014 landings ¹ | Adjustments | 2015 Base annual quota | 2015 Final annual quota | Season opening dates
|  | (A) | (B) | (C) | (D) | (D + C) |
Gulf of Mexico | Blacktip Sharks | 274.3 mt dw (604,626 lb dw) | 202.3 mt dw (446,024 lb dw) | 72.0 mt dw (158,602 lb dw) ² | 256.6 mt dw (565,700 lb dw) | 328.6 mt dw (724,302 lb dw) | January 1, 2015.
| Aggregated Large Coastal Sharks | 151.2 mt dw (333,828 lb dw) | 153.7 mt dw (338,923 lb dw) | −1.0 mt dw (2,337 lb dw) ³ | 157.5 mt dw (347,317 lb dw) | 156.5 mt dw (344,980 lb dw)
| Hammerhead Sharks | 25.3 mt dw (55,722 lb dw) | 14.4 mt dw (31,733 lb dw) |  | 25.3 mt dw (55,722 lb dw) | 25.3 mt dw (55,722 lb dw)
| Non-Blacknose Small Coastal Sharks | 68.3 mt dw (150,476 lb dw) | 66.8 mt dw (147,366 lb dw) |  | 45.5 mt dw (100,317 lb dw) | 45.5mt dw (100,317 lb dw)
| Blacknose Sharks | 1.8 mt dw (4,076 lb dw) | 1.4 mt dw (3,149 lb dw) | −0.2 mt dw (−437 lb dw) ⁴ | 2.0 mt dw (4,513 lb dw) | 1.8 mt dw (4,076 lb dw)
Atlantic | Aggregated Large Coastal Sharks | 168.9 mt dw (372,552 lb dw) | 101.6 mt dw (224,098 lb dw) |  | 168.9 mt dw (372,552 lb dw) | 168.9 mt dw (372,552 lb dw) | July 1, 2015.
| Hammerhead Sharks | 27.1 mt dw (59,736 lb dw) | 6.0 mt dw (13,223 lb dw) |  | 27.1 mt dw (59,736 lb dw) | 27.1 mt dw (59,736 lb dw)
| Non-Blacknose Small Coastal Sharks | 264.1 mt dw (582,333 lb dw) | 103.1 mt dw (227,202 lb dw) |  | 176.1 mt dw (388,222 lb dw) | 176.1 mt dw (388,222 lb dw) | January 1, 2015.
| Blacknose Sharks | 17.5 mt dw (38,638 lb dw) | 17.4 mt dw (38,437 lb dw) | −0.5 mt dw (−1,111 lb dw) ⁴ | 18.0 mt dw (39,749 lb dw) | 17.5 mt dw (38,638 lb dw)
No regional quotas | Non-Sandbar LCS Research | 50.0 mt dw (110,230 lb dw) | 14.3 mt dw (31,543 lb dw) |  | 50.0 mt dw (110,230 lb dw) | 50.0 mt dw (110,230 lb dw) | January 1, 2015.
| Sandbar Shark Research | 116.6 mt dw (257,056 lb dw) | 37.5 mt dw (82,737 lb dw) |  | 116.6 mt dw (257,056 lb dw) | 116.6 mt dw (257,056 lb dw)
| Blue Sharks | 273.0 mt dw (601,856 lb dw) | 7.8 mt dw (17,157 lb dw) |  | 273.0 mt dw (601,856 lb dw) | 273.0 mt dw (601,856 lb dw)
| Porbeagle Sharks | 1.2 mt dw (2,820 lb dw) | 2.5 mt dw (5,586 lb dw) | −1.3 mt dw (−2,766 lb dw) | 1.7 mt dw (3,748 lb dw) | 0.4 mt dw (982 lb dw) | Closed ⁵
| Pelagic Sharks Other Than Porbeagle or Blue | 488 mt dw (1,075,856 lb dw) | 126.7 mt dw (279,276 lb dw) |  | 488.0 mt dw (1,075,856 lb dw) | 488.0 mt dw (1,075,856 lb dw) | January 1, 2015.
¹ All landings except for the porbeagle shark landings are from January 1, 2014, through October 15, 2014, and are subject to change. Porbeagle shark landings are from January 1, 2014, through December 10, 2014.
² This adjustment accounts for underharvest in 2014. Therefore, the Gulf of Mexico blacktip shark adjusted quota will be 328.6 mt dw for the 2015 fishing season.
³ This adjustment accounts for overharvests from 2013 and 2014. In the final rule establishing the 2014 quotas (78 FR 70500; November 26, 2013), the 2013 Gulf of Mexico aggregated LCS quota was overharvested by 6.2 mt dw (13,489 lb dw). After the final rule establishing the 2014 quotas published, late dealer reports indicated the quota was overharvested by an additional 0.1 mt dw (408 lb dw), for a total overharvest of 6.3 mt dw (13,897 lb dw). Recently, NMFS determined that the 2014 final rule overestimated the overharvest from 2013 by 1.3 mt dw (2,758 lb dw). In 2014, the Gulf of Mexico aggregated LCS quota was overharvested by 2.3 mt dw (5,095 lb dw). Therefore, this final rule reduces the Gulf of Mexico aggregated LCS quota by 1.0 mt dw (2.3 mt dw overharvest in 2014—1.3 mt dw overestimated from 2013). NMFS will adjust the 2015 base annual quota based on the updated overharvest estimates from 2013 and 2014.
⁴ This adjustment accounts for overharvest in 2012. After the final rule establishing the 2012 quotas published, late dealer reports indicated the blacknose shark quota was overharvested by 3.5 mt dw (7,742 lb dw). In the final rule establishing the 2014 quotas, NMFS implemented a 5-year adjustment of the overharvest amount by the percentage of landings in 2012. Thus, NMFS will reduce the Gulf of Mexico blacknose shark quota by 0.2 mt dw (437 lb dw) and the Atlantic blacknose shark quota by 0.5 mt dw (1,111 lb dw) each year from 2014 through 2018. NMFS will reduce the 2015 base annual quota based on overharvest from 2012.
⁵ This closure accounts for overharvest in 2014. After the final rule establishing the 2015 quotas published, dealer reports indicated that the porbeagle quota was overharvested by 1.3 mt dw (2,766 lb dw). Accounting for this large overharvest would result in a 2015 commercial quota of 0.4 mt dw (3,748−2,766 lb dw = 982 lb dw). It would be difficult to monitor such a small amount of quota and to timely assess when landings are projected to reach 80 percent of it in a way that allows NMFS to close the fishery before overharvests would occur (i.e., when landings reach 0.3 mt dw or 786 lb dw; § 635.28(b)(1)).

During the closure, retention of porbeagle sharks is prohibited for persons fishing aboard vessels issued a commercial shark limited access permit (LAP) under § 635.4. However, persons aboard a commercially-permitted vessel that is also properly permitted to operate as a charter vessel or headboat for HMS and is engaged in a for-hire trip could fish under the recreational retention limits for sharks and “no sale” provisions (§ 635.22(a) and (c)). A shark dealer issued a permit pursuant to § 635.4 may not purchase or receive porbeagle sharks from a vessel issued an Atlantic shark LAP, except that a permitted shark dealer or processor may possess porbeagle sharks that were harvested, off-loaded, and sold, traded, or bartered, prior to the effective date of the closure and were held in storage. Under this closure, a shark dealer issued a permit pursuant to § 635.4 may, in accordance with state regulations, purchase or receive a porbeagle sharks if the sharks were harvested, off-loaded, and sold, traded, or bartered from a vessel that fishes only in state waters and that has not been issued an Atlantic Shark LAP, HMS Angling permit, or HMS Charter/Headboat permit pursuant to § 635.4.

Pursuant to 5 U.S.C. 553(b)(B), the Assistant Administrator for Fisheries, NOAA (AA), finds that providing prior notice and public comment for this action is impracticable and contrary to the public interest because the fishery is currently underway and any delay in this action would result in further overharvest of the quota and be inconsistent with management requirements and objectives. Similarly, affording prior notice and opportunity for public comment on this action is contrary to the public interest because if the quota is further exceeded, the stock may be negatively affected and fishermen ultimately could experience reductions in the available quota and a lack of fishing opportunities in future seasons. For these reasons, the AA also finds good cause to waive the 30-day delay in effective date pursuant to 5 U.S.C. 553(d)(3). This action is required under § 635.28(b)(2) and is exempt from review under Executive Order 12866.

Authority: 16 U.S.C. 1801 et seq.

Dated: December 12, 2014.
Emily H. Menashes,
Acting Director, Office of Sustainable Fisheries, National Marine Fisheries Service.

[FR Doc. 2014-29552 Filed 12-12-14; 4:15 pm]

BILLING CODE 3510-22-P